DEPARTMENT OF COMMERCE

National Oceanic and Atmospheric Administration

RIN 0648-XM16

Marine Mammals; File No. 13927

AGENCY: National Marine Fisheries Service (NMFS), National Oceanic and Atmospheric Administration (NOAA), Commerce.

ACTION: Notice; receipt of application.

SUMMARY: Notice is hereby given that Associated Scientists at Woods Hole (ASWH) (Dr. James Hain, Principal Investigator), Box 721, Woods Hole, MA 02543, has applied in due form for a permit to conduct research on North Atlantic right whales (Eubalaena glacialis) and other cetacean species.

DATES: Written, telefaxed, or e-mail comments must be received on or before January 9, 2009.

ADDRESSES: The application and related documents are available for review upon written request or by appointment in the following offices:

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Avenue South, Saint Petersburg, Florida 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13927.

FOR FURTHER INFORMATION CONTACT: Carrie Hubard or Amy Hapeman, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

ASWH requests a five-year permit to conduct scientific research focusing primarily on North Atlantic right whales, with a secondary focus on humpback (Megaptera novaeangliae) and fin (Balaenoptera physalus) whales. The purposes of the right whale research include: (1) to improve knowledge of right whale habitat utilization; (2) to monitor the population in a portion of the southeast U.S. right whale critical habitat; (3) to contribute to the right whale photo-identification catalog; (4) to characterize the shallow water acoustic environment and right whale vocalizations; and (5) to examine sightability from different types of platforms. The feeding behavior of right, fin, and humpback whales would also be studied using aerial platforms.

The main study areas are the waters off northeast Florida in December through April and the waters off Cape Cod, MA in the summer months. Research could occur year round in Atlantic waters from Maine to Florida. The majority of the research would involve aerial surveys conducted from a variety of platforms, including airplanes, blimps, and aerostats. A maximum of 50 fin and 50 humpback whales could be harassed annually during aerial surveys. Seventy-five right whales may be harassed annually during aerial surveys. Twenty other cetacean species, including endangered sperm (Physeter macrocephalus), sei (Balaenoptera acutorostrata), and blue (Balaenoptera musculus) whales, may be incidentally harassed during aerial surveys. Two pinniped species and four species of sea turtles (loggerhead (Caretta caretta), leatherback (Dermochelys coriacea), Kemp's ridley (Lepidochelys kempii), green (Chelonia mydas)) may also be incidentally harassed as a result of aerial surveys.

Vessel surveys would also be conducted in U.S. southeast waters. Close approaches to right whales would be made to collect photo-identification, behavioral and passive acoustic data. ASWH proposes to use both motorized (10 right whales harassed annually) and non-motorized (i.e., kayaks) (5 right whales harassed annually) vessels in their research.

Concurrent with the publication of this notice in the Federal Register, NMFS is forwarding copies of this application to the Marine Mammal Commission and its Committee of Scientific Advisors.

Dated: December 4, 2008.
P. Michael Payne,
Chief, Permits, Conservation and Education Division, Office of Protected Resources, National Marine Fisheries Service.

[FR Doc. E8-29204 Filed 12-9-08; 8:45 am]

BILLING CODE 3510-22-S